DEPARTMENT OF TRANSPORTATION

Federal Aviation Administration

14 CFR Part 71

[Docket No. FAA-2012-0564; Airspace Docket No. 12-AWA-4]

Amendment of Class C Airspace; Colorado Springs, CO

AGENCY: Federal Aviation Administration (FAA), DOT.

ACTION: Final rule.

SUMMARY: This action modifies the Colorado Springs, CO, Class C airspace area by amending the legal description to reflect the current airport reference point (ARP) information for the City of Colorado Springs Municipal Airport. The operating requirements remain the same.

DATES: Effective Date: 0901 UTC, September 20, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

Class C airspace areas are designed to improve air safety by reducing the risk of midair collisions in high volume airport terminal areas and to enhance the management of air traffic operations in that area. The FAA recently attempted to modify the Class E airspace at City of Colorado Springs Municipal Airport (COS), CO, to ensure containment of new instrument procedures within controlled airspace. As a result of that effort, it was determined the COS ARP geographic position information contained in the Colorado Springs, CO, Class C legal description was no longer accurate due to an airfield survey accomplished previously and required updating. This amendment action ensures the COS ARP described in the Colorado Springs, CO, Class C and Class E legal descriptions match the FAA aeronautical database information so the airspace areas will chart correctly with a shared boundary depicted.

Accordingly, since this action merely reflects the geographic coordinates to be in concert with the FAA's current aeronautical database, and does not change the dimensions or operating requirements of that airspace, notice and public procedures under 5 U.S.C. 553(b) are unnecessary.

The Rule

This action amends Title 14 Code of Federal Regulations (14 CFR) part 71 by amending the Class C airspace area at Colorado Springs, CO. Specifically, the ARP for the City of Colorado Springs Municipal Airport is changed to reflect “lat. 38°48′21″ N., long. 104°42′03″ W.” This minor correction amends the ARP geographic position coordinates to reflect the information currently contained in the FAA's aeronautical database.

Class C airspace areas are published in paragraph 4000 of FAA Order 7400.9V, dated August 9, 2011 and effective September 15, 2011, which is incorporated by reference in 14 CFR 71.1. The Class C airspace area amendment in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Class C airspace at Colorado Springs, CO.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9V, Airspace Designations and Reporting Points, dated August 9, 2011 and effective September 15, 2011, is amended as follows:

Paragraph 4000 Class C airspace.

* * * * *

ANM CO C Colorado Springs, CO

City of Colorado Springs Municipal Airport

(Lat. 38°48′21″ N., long. 104°42′03″ W.)

That airspace within a 5-mile radius of the City of Colorado Springs Municipal Airport extending upward from the surface to and including 10,200 feet MSL; and that airspace extending upward from 8,500 feet MSL to 10,200 feet MSL between the 5- and 10-mile radius beginning at a line drawn from the 270° bearing from the airport at 5 miles direct to the 333° bearing from the airport at 10 miles clockwise to Colorado State Highway 94, excluding that airspace east of Meridian Road and north of Garret Road; and that airspace extending upward from 7,500 feet MSL to 10,200 feet MSL from Colorado State Highway 94 clockwise to a line drawn from the 188° bearing from the airport at 10 miles direct to the 197° bearing from the airport at 5 miles.

* * * * *

Issued in Washington, DC, on June 7, 2012.
Ellen Crum,
Acting Manager, Airspace, Regulations and ATC Procedures Group.

[FR Doc. 2012-14387 Filed 6-13-12; 8:45 am]

BILLING CODE 4910-13-P